DEPARTMENT OF THE TREASURY

Agency Information Collection Activities; Submission for OMB Review; Comment Request; Bureau of Engraving and Printing Features of Interest Survey for Banknote Equipment Manufacturers

AGENCY: Departmental Offices, U.S. Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before December 26, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of Engraving and Printing (BEP)

1. Title: Bureau of Engraving and Printing Features of Interest Survey for Banknote Equipment Manufacturers.

OMB Control Number: 1520-0012.

Type of Request: Extension without change of a currently approved collection.

Description: The Bureau of Engraving and Printing Feature of Interest Survey for Banknote Equipment Manufacturers (BEMs) is voluntarily completed by BEM companies to inform BEP's efforts to develop features to be included in future Federal Reserve Note (FRN) redesigns. The survey gives BEM companies the opportunity to comment whether proposed features and/or FRN redesigns (a.k.a. Features of Interest) can be detected, validated, transported, and stored by their products. Banknote Equipment Manufacturers (BEMs) are companies that produce any type of equipment that handles banknotes for commercial purposes involving accept/reject decisions for FRNs.

Form: None.

Affected Public: Businesses or other for profits.

Estimated Number of Respondents: 15.

Frequency of Response: 3 per year.

Estimated Total Number of Annual Responses: 45.

Estimated Time per Response: 1 hour.

Estimated Total Annual Burden Hours: 45.

Authority: 44 U.S.C. 3501 et seq.

Spencer W. Clark,
Treasury PRA Clearance Officer.

[FR Doc. 2025-21235 Filed 11-25-25; 8:45 am]

BILLING CODE 4840-01-P